OFFICE OF PERSONNEL MANAGEMENT

Comment Request for Review of a Generic Information Collection: Customer Experience Feedback

AGENCY: Office of Personnel Management.

ACTION: 60-Day notice and request for comments.

SUMMARY: The Office of Personnel Management (OPM) intends to submit to the Office of Management and Budget (OMB) a request for review of a generic clearance to collect qualitative feedback on OPM Healthcare and Insurance programs' service delivery. Approval of this generic collection is necessary to garner customer and stakeholder feedback in an efficient, timely manner, in accordance with our commitment to improving service delivery.

DATES: Comments are encouraged and will be accepted until November 14, 2022.

ADDRESSES: Federal Rulemaking Portal: http://www.regulations.gov.

All submissions received must include the agency name and docket number for this Federal Register document. The general policy for comments and other submissions from members of the public is to make these submissions available for public viewing on the internet at http://www.regulations.gov as they are received without change, including any personal identifiers or contact information.

FOR FURTHER INFORMATION CONTACT: A copy of this information collection request, with applicable supporting documentation, may be obtained by contacting OPM/Healthcare and Insurance, Office of Personnel Management, 1900 E Street NW, Washington, DC 20415, Attention: M. Fatima Moghis or email to fatima.moghis@opm.gov.

SUPPLEMENTARY INFORMATION: As required by the Paperwork Reduction Act of 1995, (Pub. L. 104-13, 44 U.S.C. chapter 35) as amended by the Clinger-Cohen Act (Pub. L. 104-106), OPM is soliciting comments for this collection. Comments are particularly invited on:

1. Whether the proposed collection of information is necessary for the proper performance of the functions of the agency, including whether the information will have practical utility;

2. Whether our estimate of the public burden of this collection is accurate, and based on valid assumptions and methodology; and

3. Ways in which we can minimize the burden of the collection of information on those who are to respond, through the use of the appropriate technological collection techniques or other forms of information technology.

OPM Healthcare and Insurance contracts with health insurance carriers to provide benefits to Federal employees, annuitants, family members and other eligible groups. The functions are authorized by various statutes and regulations: chapter 89 of Title 5, United States Codes and sections 890 and 892 of Title 5, Code of Federal Regulations.

Improving our programs requires assessment of service delivery. The information collected from our customers and stakeholders will help ensure that users have an effective, efficient, and satisfying experience with OPM Healthcare and Insurance programs. This feedback will provide insights into customer or stakeholder perceptions, experiences and expectations, provide an early warning of issues with products or service, or focus attention on areas where communication, training or changes in operations might improve delivery of products or services. These collections will allow for ongoing, collaborative and actionable communications between OPM Healthcare and Insurance and its customers and stakeholders. It will also allow feedback to contribute directly to the improvement of program management. If this information is not collected, vital feedback from customers and stakeholders on OPM Healthcare and Insurance services will be unavailable.

OPM Healthcare and Insurance will collect, analyze, and interpret information gathered through this generic clearance to identify strengths and weaknesses of current programs and services and make improvements based on feedback. The solicitation of feedback will target areas such as: appropriateness and usefulness of programs, and efficiency of service delivery. Responses will be assessed to plan and inform efforts to improve or maintain the quality of service offered to customers and stakeholders. OPM Healthcare and Insurance will collect information electronically and/or use online collaboration tools as appropriate to reduce the burden.

The types of collections that this generic clearance covers include, but are not limited to:

• Small discussion groups;

• Focus Groups of customers, potential customers, delivery partners, or other stakeholders;

• Qualitative customer satisfaction surveys (e.g., post-transaction surveys; opt-out web surveys);

• In-person observation testing (e.g., website or software usability tests).

Without these types of feedback, OPM Healthcare and Insurance will not have timely information to adjust its services to meet customer needs.

Analysis

Agency: U.S. Office of Personnel Management.

Title: OPM Healthcare and Insurance Customer Experience Feedback.

OMB: 3206-NEW.

Frequency: On occasion.

Affected Public: Government employees and individuals.

Number of Respondents: 5,000,000.

Estimated Time per Respondent: 1 hour.

Total Burden Hours: 500,000,000 hours.

Office of Personnel Management
Stephen Hickman,
Federal Register Liaison.

[FR Doc. 2022-19787 Filed 9-12-22; 8:45 am]

BILLING CODE 6325-43-P